DEPARTMENT OF DEFENSE

Department of the Army; Corps of Engineers

Intent To Prepare a Draft Environmental Impact Statement Titled: St. Charles International Airport Project, St. Charles Parish, LA

AGENCY: Department of the Army, Army Corps of Engineers, DoD.

ACTION: Notice of intent.

SUMMARY: The U.S. Army Corps of Engineers, New Orleans District (MVN), has received an application from St. Charles International Airport, LLC, 3453 Meadow Lane, Houston, TX 77027 to build an international airport facility in St. Charles Parish, in the vicinity of the highway I-10/I-310 interchange near Kenner, Louisiana. The MVN is initiating this study under the authority of 30 CFR part 230. This study will investigate the feasibility of constructing an international airport faculty in St. Charles Parish.

FOR FURTHER INFORMATION CONTACT: Questions concerning the Environmental Impact Statement (EIS) should be addressed to Mr. Gib Owen at U.S. Army Corps of Engineers, PM-RS, P.O. Box 60267, New Orleans, LA 70160-0267, phone (504) 862-1337, fax number (504) 862-2572 or by E-mail at gib.a.owen@mvn02.usace.army.mil.

SUPPLEMENTARY INFORMATION: 1. Applicant proposes to construct an international airport facility and appurtenant structures on approximately 8,153 acres of which approximately 4,253 acres is plaustrine 1 and emergent wetland and 3,900 acres of open water. Facility would consist of the construction of: (1) Five runways (9,000 to 12,000 feet long) and accompanying taxiways; (2) taxiway over I-310; (3) overpass and access roadway from Highway I-10 to terminal facilities; (4) intermodal freight center including facilities for the handling, processing and storage of cargo; (5) passenger terminal; (6) grade reduction of Canadian National-Illinois Central railroad track; (7) flood protection levee approximately 56,829 feet in length; and (8) hurricane protection levee approximately 29,823 feet in length. Applicant proposes to demuck approximately 23,981,558 cubic yards of material from site. Applicant further proposes to fill area using approximately 59,032,115 cubic yards of material obtained from dredging the Mississippi River, the Bonnet Carre Floodway and commercial sources.

2. Scoping is the process for determining the range of alternatives and significant issues to be addressed in the EIS. For this analysis, a letter will be sent to all parties believed to have an interest in the analysis, requesting their input on alternatives and issues to be evaluated. The letter will also notify interested parties of public scoping meetings that will be held in the local area. Notices will also be sent to local news media. All interested parties are invited to comment at this time, and anyone interested in this study should request to be included in the study mailing list.

A public scoping meeting will be held in November or December 2002 at the Lake Pontchartrain Center 4545 Williams Boulevard in Kenner Louisiana. Additional meetings could be held, depending upon interest and if it is determined that further public coordination is warranted.

3. Significant Issues. The tentative list of resources and issues to be evaluated in the EIS includes: Wetlands (marshes and swamps); bottomland hardwoods; wildlife resources; aquatic resources including fisheries and essential fish habitat; coastal zone impacts; water quality; air quality; threatened and endangered species; recreation resources; cultural resources; aircraft noise; solid waste impacts; storm water runoff; and transportation impacts. Socioeconomic items to be evaluated in the EIS include: need for project; flood protection; business and industrial activity; employment; land use; property values; public/community facilities and services; tax revenues; population; community and regional growth; transportation; housing; community cohesion; and noise. Additionally, a No-Action alternative will be evaluated.

4. Cooperating Agency. The Federal Aviation Administration (FAA) will be a cooperating agency in the preparation of a draft EIS (DEIS) and will provide guidance and comment for areas within the expertise of the FAA.

5. Environmental Consultation and Review. The U.S. Fish and Wildlife Service (USFWS) will be assisting in the documentation of existing conditions and the assessment of effects of project alternatives through the Fish and Wildlife Coordination Act consultation procedures. The USFWS will provide a Fish and Wildlife Coordination Act report. Consultation will be accomplished with the USFWS and the National Marine Fisheries Service (NMFS) concerning threatened and endangered species and their critical habitat. The NMFS will be consulted on the effects of this proposed action on Essential Fish Habitat. The DEIS or a notice of its availability will be distributed to all interested agencies, organizations, and individuals.

6. Estimated Date of Availability. Funding levels will dictate the date when the DEIS is available. The earliest that the DEIS is expected to be available in the fall of 2004.

Dated: October 1, 2002.
Peter J. Rowan,
Colonel, U.S. Army, District Engineer.

[FR Doc. 02-27157 Filed 10-23-02; 8:45 am]

BILLING CODE 3710-84-P